FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 4, 2018.

A. Federal Reserve Bank of Atlanta (Kathryn Haney, Director of Applications) 1000 Peachtree Street NE, Atlanta, Georgia 30309. Comments can also be sent electronically to Applications.Comments@atl.frb.org:

1. Kenneth Nelkin, individually and as trustee for Max Nelkin Revocable Trust and Elliette Nelkin Revocable Trust, all of Morgan City, Louisiana; and Elliette Nelkin, New Orleans, Louisiana; to retain shares of MC Bancshares, Inc. and thereby retain shares of M C Bank & Trust Company, both of Morgan City, Louisiana.

2. Paula Swiber, Mike Swiber, Carline Land Corporation, Carline Bouef Properties, Wallace Carline, individually and as trustee for Wallace Carline and Gracie Carline, all of Morgan City, Louisiana; to retain shares of MC Bancshares, Inc., and thereby retain shares of M C Bank & Trust Company, both of Morgan City, Louisiana.

Board of Governors of the Federal Reserve System, March 15, 2018.
Ann E. Misback,
Secretary of the Board.

[FR Doc. 2018-05597 Filed 3-19-18; 8:45 am]

BILLING CODE P